SURFACE TRANSPORTATION BOARD

[Docket No. FD 36875]

Mason Railroad, Inc.—Acquisition Exemption—L. Neill Cartage Co., Inc.

Mason Railroad, Inc. (MRR), a noncarrier, has filed a verified notice of exemption under 49 CFR 1150.31 to acquire from L. Neill Cartage Co., Inc. (Cartage), and operate approximately 665 feet of rail line located at a transload facility owned by Cartage in Bedford Park, Ill. (the Line).¹ The Line has no mileposts.

¹ MRR supplemented its initial December 4, 2025 filing on December 29 and 30, 2025. The date of MRR's second supplement, December 30, 2025, is therefore considered the filing date of the verified notice.

According to the verified notice, the Line is used in conjunction with interchanging boxcar loads of bulk commodities (such as paper and packaging-related materials, lumber, and polystyrene) to and from the Belt Railway Company of Chicago. The verified notice further states that MRR and Cartage have reached an agreement for MRR to operate over the Line and conduct transloading operations.

The transaction may be consummated on or after January 29, 2026, the effective date of the exemption (30 days after the verified notice was filed).

MRR certifies that its projected annual revenues will not exceed those that would qualify it as a Class III rail carrier. MRR also certifies that the transaction does not involve any provision that would prohibit or limit future interchange with any third-party connecting carrier.

If the verified notice contains false or misleading information, the exemption is void ab initio. Petitions to revoke the exemption under 49 U.S.C. 10502(d) may be filed at any time. The filing of a petition to revoke will not automatically stay the effectiveness of the exemption. Petitions for stay must be filed no later than January 22, 2026 (at least seven days before the exemption becomes effective).

All pleadings, referring to Docket No. FD 36875, must be filed with the Surface Transportation Board either via e-filing on the Board's website or in writing addressed to 395 E Street SW, Washington, DC 20423-0001. In addition, a copy of each pleading must be served on MRR's representative, Max Callahan, Fulcrum Rail, 180 North Wacker Drive, Suite 400, Chicago, IL 60606.

According to PRR, this action is categorically excluded from environmental review under 49 CFR 1105.6(c) and from historic preservation reporting requirements under 49 CFR 1105.8(b).

Board decisions and notices are available at www.stb.gov.

Decided: January 8, 2026.
By the Board, Anika S. Cooper, Chief Counsel, Office of Chief Counsel.
Tammy Lowery,
Clearance Clerk.

[FR Doc. 2026-00624 Filed 1-14-26; 8:45 am]

BILLING CODE 4915-01-P